GENERAL SERVICES ADMINISTRATION

[FAI N02]

Federal Acquisition Conference and Exposition, June 2005

AGENCY: Office of the Chief Acquisition Officer, GSA

ACTION: Notice of meeting

SUMMARY: The Federal Acquisition Conference and Exposition (FACE) 2005 is a forum for Federal acquisition professionals and policy makers to share their insights and experiences. FACE also provides a full range of training on the latest acquisition issues and an opportunity to review exhibitors' products and services.

The Chief Acquisition Officers Council, Federal Acquisition Institute, U.S. General Services Administration, and Department of Defense are sponsoring the FACE 2005. This Governmentwide conference has become a major event for the acquisition community. The Federal Acquisition Institute is serving as the conference planner. The conference will be held June 7-8, 2005 at the Washington Convention Center in Washington, DC.

The theme of this year's conference, “Mission Possible through Acquisition,” recognizes contracting as a key component in supporting how Federal agencies acquire the goods and services that enable them to perform their missions.

Benefits of Attending—

• Earn 10.5 Continuous Learning Points;

• Learn about important issues and emerging trends in acquisition;

• Hear from senior managers, agency experts, and industry partners;

• Visit the exhibit hall to review products and services; and

• Network with your colleagues in the Federal acquisition community throughout the conference and at the reception Tuesday evening.

WHO SHOULD ATTEND? Contracting officers, contract specialists, contracting officer's technical representatives/contracting officer's representatives, program managers, and private industry contractors.

REGISTRATION: Registration rates are $400 for government attendees and $700 for industry attendees. These registration rates and online registration expire on May 31, 2005. After May 31, attendees may register onsite. Onsite rates are $500 for government attendees and $750 for industry attendees. Register online: www.fai.gov/face.

FOR FURTHER INFORMATION CONTACT: Ms. Heather Cameron, by phone at (703) 247-5727 or toll free at (866) 604-5376 or by e-mail at FACE@sra.com

Dated: April 13, 2005.
Pat Brooks,
Director,Office of National and Regional Acquisition Development.

[FR Doc. 05-7731 Filed 4-18-05; 8:45 am]

BILLING CODE 6820-61-S